DEPARTMENT OF VETERANS AFFAIRS

[OMB Control No. 2900-0408]

Agency Information Collection (Manufactured Home Loan Claim) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, will submit the collection of information abstracted below to the Office of Management and Budget (OMB) for review and comment. The PRA submission describes the nature of the information collection and its expected cost and burden; it includes the actual data collection instrument.

DATES: Comments must be submitted on or before June 12, 2008.

ADDRESSES: Submit written comments on the collection of information through http://www.Regulations.gov or to VA's OMB Desk Officer, OMB Human Resources and Housing Branch, New Executive Office Building, Room 10235, Washington, DC 20503 (202) 395-7316. Please refer to “OMB Control No. 2900-0408” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-0408.”

SUPPLEMENTARY INFORMATION: Titles:

a. Manufactured Home Loan Claim Loan Guaranty (Manufactured Home Unit Only), (Section 3720, Chapter 37, Title 38 U.S.C), VA Form 26-8629.

b. Manufactured Home Loan Claim Under Loan Guaranty (Manufactured Home Unit and Lot or Lot Only), (Section 3712, Chapter 37, Title 38 U.S.C), VA Form 26-8630.

OMB Control Number: 2900-0408.

Type of Review: Extension of a currently approved collection.

Abstract: Holders of foreclosed VA guaranteed manufactured home unit and guaranteed combination manufactured home complete VA Forms 26-8629 and 26-8630 as a prerequisite payment of claims. The holder record accrued interest, various expenses of liquidation and claim balance on the forms to determine the amount claimed and submit with supporting documentation to VA. VA uses the data to determine the proper claim payment due to the holder.

An agency may not conduct or sponsor, and a person is not required to respond to a collection of information unless it displays a currently valid OMB control number. The Federal Register Notice with a 60-day comment period soliciting comments on this collection of information was published on February 21, 2008, at pages 9614-9615.

Estimated Annual Burden:

a. Manufactured Home Loan Claim Loan Guaranty (Manufactured Home Unit Only), (Section 3720, Chapter 37, Title 38 U.S.C), VA Form 26-8629—33 hours.

b. Manufactured Home Loan Claim Under Loan Guaranty (Manufactured Home Unit and Lot or Lot Only), (Section 3712, Chapter 37, Title 38 U.S.C), VA Form 26-8630—3 hours.

Estimated Average Burden Per Respondent:

a. Manufactured Home Loan Claim Loan Guaranty (Manufactured Home Unit Only), (Section 3720, Chapter 37, Title 38 U.S.C), VA Form 26-8629—20 minutes.

b. Manufactured Home Loan Claim Under Loan Guaranty (Manufactured Home Unit and Lot or Lot Only), (Section 3712, Chapter 37, Title 38 U.S.C), VA Form 26-8630—20 minutes.

Frequency of Response: On occasion.

Estimated Number of Respondents:

a. Manufactured Home Loan Claim Loan Guaranty (Manufactured Home Unit Only), (Section 3720, Chapter 37, Title 38 U.S.C), VA Form 26-8629—100.

b. Manufactured Home Loan Claim Under Loan Guaranty (Manufactured Home Unit and Lot or Lot Only), (Section 3712, Chapter 37, Title 38 U.S.C), VA Form 26-8630—10.

Dated: May 2, 2008.
By direction of the Secretary.
Denise McLamb,
Program Analyst, Records Management Service.

[FR Doc. E8-10539 Filed 5-12-08; 8:45 am]

BILLING CODE 8320-01-P